DEPARTMENT OF ENERGY

Federal Energy Regulatory Commission

Combined Notice of Filings #1

Take notice that the Commission received the following electric rate filings:

Docket Numbers: ER11-2154-005.

Applicants: Twin Eagle Resource Management, LLC.

Description: Notice of Change in Status of Twin Eagle Resource Management, LLC.

Filed Date: 10/25/16.

Accession Number: 20161025-5136.

Comments Due: 5 p.m. ET 11/15/16.

Docket Numbers: ER16-938-005.

Applicants: Arizona Public Service Company.

Description: Compliance filing: Compliance Filing—APS EIM OATT Revisions to be effective 5/1/2016.

Filed Date: 10/25/16.

Accession Number: 20161025-5112.

Comments Due: 5 p.m. ET 11/15/16.

Docket Numbers: ER16-2304-001

Applicants: Duke Energy Florida, LLC.

Description: Compliance filing: Unfiled GIAs Compliance Filing to be effective 9/26/2016.

Filed Date: 10/26/16.

Accession Number: 20161026-5063.

Comments Due: 5 p.m. ET 11/16/16.

Docket Numbers: ER17-181-000.

Applicants: Wabash Valley Power Association, Inc.

Description: Tariff Cancellation: Submission of Notice of Cancellation—NREMC to be effective 6/30/2015.

Filed Date: 10/25/16.

Accession Number: 20161025-5107.

Comments Due: 5 p.m. ET 11/15/16.

Docket Numbers: ER17-182-000.

Applicants: Pacific Gas and Electric Company.

Description: Compliance filing: Resubmittal of Revisions to WDT LGIA & SGIA In Compliance With Orders 827 & 828 to be effective 10/17/2016.

Filed Date: 10/26/16.

Accession Number: 20161026-5002.

Comments Due: 5 p.m. ET 11/16/16.

Docket Numbers: ER17-183-000.

Applicants: Duke Energy Progress, LLC.

Description: § 205(d) Rate Filing: DEP-SEPA Amended RS No. 126 to be effective 12/31/2016.

Filed Date: 10/26/16.

Accession Number: 20161026-5030.

Comments Due: 5 p.m. ET 11/16/16.

Docket Numbers: ER17-184-000.

Applicants: SociVolta Inc.

Description: Baseline eTariff Filing: Baseline new to be effective 1/1/2017.

Filed Date: 10/26/16.

Accession Number: 20161026-5033.

Comments Due: 5 p.m. ET 11/16/16.

Docket Numbers: ER17-185-000.

Applicants: Upper Michigan Energy Resources Corporation.

Description: § 205(d) Rate Filing: UMERC to Alger Delta Rate Schedule No. 3 to be effective 1/1/2017.

Filed Date: 10/26/16.

Accession Number: 20161026-5041.

Comments Due: 5 p.m. ET 11/16/16.

Docket Numbers: ER17-186-000.

Applicants: Upper Michigan Energy Resources Corporation.

Description: § 205(d) Rate Filing: UMERC to Ontonagon Rate Schedule No 5 to be effective 1/1/2017.

Filed Date: 10/26/16.

Accession Number: 20161026-5042.

Comments Due: 5 p.m. ET 11/16/16.

Docket Numbers: ER17-187-000.

Applicants: Twin Eagle Resource Management, LLC.

Description: § 205(d) Rate Filing: Change in Category Status to be effective 12/27/2016.

Filed Date: 10/26/16.

Accession Number: 20161026-5056.

Comments Due: 5 p.m. ET 11/16/16.

Docket Numbers: ER17-188-000.

Applicants: Southern California Edison Company.

Description: Tariff Cancellation: Notices of Cancellation GIA & DSA SunEdison ? Terminal Freezers—Oxnard, Calif to be effective 12/26/2016.

Filed Date: 10/26/16.

Accession Number: 20161026-5081.

Comments Due: 5 p.m. ET 11/16/16.

Docket Numbers: ER17-189-000.

Applicants: Northern States Power Company, a Minnesota Corporation.

Description: § 205(d) Rate Filing: MP Maint Svcs Agrmt—628—0.0.0 to be effective 12/23/2016.

Filed Date: 10/26/16.

Accession Number: 20161026-5089.

Comments Due: 5 p.m. ET 11/16/16.

Take notice that the Commission received the following electric securities filings:

Docket Numbers: ES17-6-000.

Applicants: National Grid USA, Nantucket Electric Company, The Narragansett Electric Company, Niagara Mohawk Power Corporation, New England Hydro-Transmission Electric, Inc., National Grid Generation LLC.

Description: Application of National Grid USA, on behalf of Nantucket Electric Company, et al., for Authority to Issue Securities.

Filed Date: 10/25/16.

Accession Number: 20161025-5129.

Comments Due: 5 p.m. ET 11/15/16.

Take notice that the Commission received the following open access transmission tariff filings:

Docket Numbers: OA08-14-000.

Applicants: Midcontinent Independent System Operator, Inc.

Description: Informational Compliance Filing regarding operational penalties of Midcontinent Independent System Operator, Inc. under OA08-14.

Filed Date: 10/24/16.

Accession Number: 20161024-5198.

Comments Due: 5 p.m. ET 11/14/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 26, 2016.
Nathaniel J. Davis, Sr.,
Deputy Secretary.

[FR Doc. 2016-26441 Filed 11-1-16; 8:45 am]

BILLING CODE 6717-01-P